ENVIRONMENTAL PROTECTION AGENCY

[ER-FRL-6695-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070559, ERP No. D1-DOE-A06181-00, Rail Alignment for the Construction and Operation of a Railroad in Nevada to a Geologic Repository (DOE/EIS-0369D) at Yucca Mountain, Nye County, NV.

Summary: EPA expressed environmental concerns about the preferred alignment (the Caliente rail alignment) because it could require the filling of up to 81 acres of waters of the U.S., including wetlands associated with the Meadow Valley Wash and Clover Creek. EPA also expressed concerns about the limited analysis regarding the hydrologic effects of the rail line construction to the Meadow Valley Wash area. Rating EC2.

EIS No. 20070419, ERP No. D-BLM-J65493-UT, Kanab Field Office Resource Management Plan, Implementation, Portions of Kane and Garfield Counties, UT.

Summary: EPA expressed environmental concerns about potential adverse impacts to water quality, aquatic resources, air quality, and sensitive/rare wildlife and their habitat. Rating EC2.

EIS No. 20070440, ERP No. D-FHW-J40178-UT, Mountain View Corridor (MVC) Project, Proposed Transportation Improvement 2030 Travel Demand in Western Salt Lake County south of I-80 and west of Bangerter Highway and in northwestern Utah County of I-15, south of the Salt Lake County Line, and north of Utah Lake, Salt Lake and Utah County, UT.

Summary: EPA has environmental concerns about the potential impairment of water quality in the Jordan River. Rating EC1.

EIS No. 20070469, ERP No. D-NOA-E91021-00, Snapper Grouper Amendment 15B, Fishery Management Plan, To Analyze the Effects of Updating Management Reference Points for Golden Tilefish (Lopholatilus chamaeleonticeps); Define Allocations for Snowy Grouper (Epinephelus niveatus) and Red Porgy (Pagrus pagrus), NC, SC, FL and GA.

Summary: EPA does not object to the proposed action. Rating LO.

EIS No. 20070484, ERP No. D-FHW-F40818-00, Interstate-94, I-43, I-894, and WI-119 (Airport Spur) I-94/USH 41 Interchange to Howard Avenue, To Address Freeway System's Deteriorated Conditions, Funding and U.S. Army COE Section 404 Permit, Kenosha, Racine and Milwaukee Counties, WI and Lake County, IL.

Summary: EPA expressed environmental concerns about the impacts to wetlands, and has requested further analysis regarding mobile source air toxics and suggests air quality mitigation strategies that should be considered. Rating EC2.

EIS No. 20070498, ERP No. D-FHW-J40181-UT, I-15 Corridor Project, Transportation Improvement from Utah County to Salt Lake County, UT.

Summary: EPA expressed environmental concerns about the potential increases in PM 2.5 as well as the project's contribution of total dissolved solids to impaired the Jordan River. Rating EC1.

EIS No. 20070517, ERP No. D-USN-D11043-MD, National Naval Medical Center, Activities to Implement 2005 Base Realignment and Closure Actions, Construction and Operation of New Facilities for Walter Reed National Military Medical Center, Bethesda, MD.

Summary: EPA expressed concern about potential wetland and historic resource impacts. Rating EC2.

EIS No. 20070519, ERP No. D-AFS-J65502-MT, Cooney McKay Forest Health and Fuels Reduction Project, Proposed to Restore Desirable Vegetative Conditions, Swan Valley near Condon, Swan Lake Ranger District, Flathead National Forest, Lake and Missoula Counties, MT.

Summary: EPA supports activities to reduce hazardous fuels and fire risk in wildland urban interface areas, but expressed environmental concerns about adverse impacts from logging and road construction on water quality. EPA also identified the need for consistency with the downstream Swan Lake TMDL. Rating EC2.

EIS No. 20070428, ERP No. DA-DOE-A06181-00, Geologic Repository for the Disposal of Spent Nuclear Fuel and High-Level Radioactive Waste at Yucca Mountain, Nye County, Nevada—Nevada Rail Transportation Corridor (DOE/EIS-0250F-S2D), Railroad Construction and Operation within the Mina Rail Corridor to connect Yucca Mountain Repository to Rail Line near Wabusha, NV.

Summary: EPA does not object to the proposed action. Rating LO.

EIS No. 20070429, ERP No. DB-DOE-A06181-00, Geologic Repository for the Disposal of Spent Nuclear Fuel and High-Level Radioactive Waste, Construction, Operation, Monitoring and Eventually Closing a Geologic Repository (DOE/EIS-0250F-S1D) at Yucca Mountain, Nye County, NV.

Summary: EPA expressed environmental concerns about regional seismic activity and questions that have been raised regarding the differences in observed strain rates in the area versus forecasted rates and whether these rates have been underestimated. EPA recommended that the final SEIS explain the appropriate strain rates will be determined and reflected in the project's conceptual seismic model. Rating EC2.

EIS No. 20070441, ERP No. DS-IBR-K39079-CA, Environmental Water Account (EWA) Project, Updated Information to Provide an Evaluation of 2004 Final EIS/EIR Environmental Water Account (EWA) and Effects Associated with Extending the Current EWA's through 2011, CA.

Summary: EPA expressed environmental concerns about potential impacts to fisheries and water quality, and recommended that the Final Supplemental EIS/EIR include additional information regarding EWA fisheries benefits, water quality conditions and management, and project funding. Rating EC2.

EIS No. 20070470, ERP No. DS-AFS-L65453-ID, North Sheep Allotments—Sheep and Goat Allotment Management Plans, Additional Information on Analyses Concerning Management Indicator Species, Capable and Suitable Grazing Lands, and Adaptive Management Strategies, Authorization of Continued Sheep Grazing for Fisher Creek, Smiley Creek, North Fork-Boulder and Baker Creek Sheep and Goat Grazing Allotments, Sawtooth National Forest, Ketchum Ranger District, Sawtooth National Recreation Area, Blaine and Custer Counties, ID.

Summary: This supplemental EIS has included additional analysis and information on grazing land status, adaptive management and species of concern. However, EPA continues to have environmental concerns about adverse impacts to water quality and riparian areas from grazing, and cumulative effects to sensitive areas and aquatic resources from multiple uses. EPA recommended more emphasis on water quality restoration and monitoring, restoring riparian and sage grouse habitats, and consideration of a hybrid alternative which is based on available resources. Rating EC2.

EIS No. 20070521, ERP No. DS-NOA-G64007-00, Reef Fish Amendment 30A: Greater Amberjack—Revise Rebuilding Plan, Accountability Measures: Gray Triggerfish-Establish Rebuilding Plan, End Overfishing, Accountability Measures, Regional Management, Management Thresholds and Benchmarks, Gulf of Mexico.

Summary: EPA does not object to the preferred alternative. Rating LO.

Final EISs

EIS No. 20070464, ERP No. F-FHW-D40335-VA, Harrisonburg Southeast Connector Location Study, Transportation Improvements from U.S. Route 11 to U.S. Route 33, Funding and U.S. Army COE Section 404 Permit, City of Harrisonburg, Rockingham County, VA.

Summary: EPA does not object to the preferred alternative.

EIS No. 20070465, ERP No. F-FRA-K59004-CA, Los Angeles to San Diego (LOSSAN) Rail Corridor, Proposed Rail Corridor Improvement Studies, Increase of Intercity Travel for Faster, Safer, and Reliable Passenger Rail System, Los Angeles, Orange, and San Diego Counties, CA.

Summary: EPA expressed environmental concerns about the direct, indirect, and cumulative impacts to aquatic and biological resources and impacts to sensitive lagoon ecosystems.

EIS No. 20070531, ERP No. F-AFS-J65481-MT, Lolo National Forest Integrated Weed Management, To Establish Beneficial Vegetation and Weed Resistant Plant Communities, Missoula, Mineral, Sanders, Granite, Powell, Lewis and Clark, Flathead, Ravalli and Lake Counties, MT.

Summary: EPA supports the Forest Service's efforts in managing the great threats from noxious weeds. The final EIS addressed our comments on prioritizing a full range of weed management activities. Because of the potential for unintended transport of herbicides to surface and ground water, EPA encouraged continued water quality monitoring to validate design criteria and monitoring mitigation measures.

EIS No. 20070490, ERP No. FS-COE-J28021-CO, Rueter-Hess Reservoir Expansion Project, Enlarges Reservoir to Provide Storage of Denver Basin Groundwater for Meeting Peak Municipal Water Supply, U.S. Army COE Section 404 Permit, Town of Parker, Douglas County, CO.

Summary: EPA expressed environmental concerns about the lack of information regarding the uncertainty of future water supplies for all of the four service areas. EPA also expressed concerns with potential impacts to Cherry Creek's adjacent wetland and riparian habitat, and recommended that the Corps include a monitoring plan to detect whether any adverse impacts to aquatic ecosystems adjacent to Cherry Creek occur as a result of the proposed project.

Dated: February 5, 2008.
Robert W. Hargrove,
Director, NEPA Compliance Division, Office of Federal Activities.

[FR Doc. E8-2371 Filed 2-7-08; 8:45 am]

BILLING CODE 6560-50-P